DEPARTMENT OF DEFENSE

Defense Acquisition Regulations System

48 CFR Part 237

Service Contracting

CFR Correction

In Title 48 of the Code of Federal Regulations, Chapter 2, Parts 200 to 299, revised as of October 1, 2014, on page 295, in section 237.101, add the definition of “Senior mentor” to read as follows:

237.101 Definitions.

* * * * *

“Senior mentor” means a retired flag, general, or other military officer or retired senior civilian official who provides expert experience-based mentoring, teaching, training, advice, and recommendations to senior military officers, staff, and students as they participate in war games, warfighting courses, operational planning, operational exercises, and decision-making exercises.

[FR Doc. 2015-14537 Filed 6-15-15; 8:45 am]

BILLING CODE 1505-01-D